DEPARTMENT OF LABOR

Mine Safety and Health Administration

Proposed Extension of Existing Information Collection; Respirable Coal Mine Dust Sampling

AGENCY: Mine Safety and Health Administration, Labor.

ACTION: Request for public comments.

SUMMARY: As part of its continuing effort to reduce paperwork and respondent burden, the Department of Labor conducts a pre-clearance consultation program to provide the general public and Federal agencies with an opportunity to comment on proposed and continuing collections of information in accordance with the Paperwork Reduction Act of 1995. This program helps to assure that requested data can be provided in the desired format, reporting burden (time and financial resources) is minimized, collection instruments are clearly understood, and the impact of collection requirements on respondents can be properly assessed. Currently, the Mine Safety and Health Administration is soliciting comments concerning the extension of the information collection for 30 CFR 70.201(c); 90.201(c); 71.201(c) and (e); 70.205(c); 71.205(c); 90.205(c); 70.209(a), (c), and (d); 71.209(a), (c), and (d); 90.209(a), (c), and (d); 70.210(b); 71.210(b); 90.210(b); 70.220(a); 71.220(a); 90.220; 71.300(a); 90.300(a); 71.301(d) and (e); and 90.301(d) and (e).

OMB last approved this information collection request on October 13, 2009. This information collection expires on October 31, 2012.

DATES: All comments must be postmarked or received by midnight Eastern Time on August 27, 2012.

ADDRESSES: Comments concerning the information collection requirements of this notice must be clearly identified with “OMB 1219-0011” and sent to the Mine Safety and Health Administration (MSHA). Comments may be sent by any of the methods listed below.

• Federal E-Rulemaking Portal: http://www.regulations.gov. Follow the on-line instructions for submitting comments.

• Facsimile: 202-693-9441, include “OMB 1219-0011” in the subject line of the message.

• Regular Mail or Hand Delivery: MSHA, Office of Standards, Regulations, and Variances, 1100 Wilson Boulevard, Room 2350, Arlington, VA 22209-3939. For hand delivery, sign in at the receptionist's desk on the 21st floor.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

The title of the information collection is being changed from “Mine Operator Dust Data Card” to “Respirable Coal Mine Dust Sampling” to more accurately reflect the type of information that is collected.

Chronic exposure to respirable coal mine dust causes lung diseases including coal workers' pneumoconiosis (CWP), emphysema, silicosis, and chronic bronchitis, known collectively as “black lung.” These diseases are debilitating and can result in disability and premature death. While considerable progress has been made in lowering dust levels since 1970 and, consequently, the prevalence rate of black lung among coal miners, severe forms of this disease continue to be identified. Newly released information from the federally funded Coal Workers' Health Surveillance Programs administered by the National Institute for Occupational Safety and Health (NIOSH) indicate that black lung remains an occupational health risk among our nation's coal miners. According to NIOSH, 933 or 3.7 percent of the 25,558 underground coal miners x-rayed between January 2003 and September 2011 were found to have black lung. Also, in FY 2011, over 28,600 former coal miners and the dependents of miners received $417 million in black lung benefits. And, since inception of the federal Black Lung Benefits Program in 1970, over $44 billion in total benefits have been paid out to former miners and their dependents.

Section 103(h) of the Federal Mine Safety and Health Act of 1977 (Mine Act), 30 U.S.C. 813(h), authorizes MSHA to collect information necessary to carry out its duty in protecting the safety and health of miners. Further, Section 101(a) of the Mine Act, 30 U.S.C. 811, authorizes the Secretary to develop, promulgate, and revise as may be appropriate, improved mandatory health or safety standards for the protection of life and prevention of injuries in coal or other mines.

The implementing standards in 30 CFR parts 70, 71, and 90 require each coal mine operator to protect miners from exposure to excessive dust levels. Parts 70 and 71 require each coal mine operator to continuously maintaining the average concentration of respirable coal mine dust in the mine atmosphere where miners normally work or travel at or below 2.0 milligrams per cubic meter of air (mg/m³). Because overexposure to respirable coal mine dust containing quartz has been associated with some miners developing silicosis (black lung), the 2.0 mg/m³ standard is further reduced, using the formula 10 ÷ % quartz, when the respirable dust contains more than 5 percent quartz. Parts 70 and 71 also require each coal mine operator to continuously maintain the average concentration of respirable dust in intake airways at underground mines at or below 1.0 mg/m³.

In addition, if a part 90 miner is employed at the mine, part 90 requires the coal mine operator to continuously maintain the average concentration of respirable dust in the mine atmosphere during each shift to which the part 90 miner in the active workings of the mine is exposed at or below 1.0 mg/m³. This standard is also reduced further if more than 5 percent quartz is found in the mine atmosphere during each shift to which the part part 90 miner is exposed.

This information collection addresses the recordkeeping associated with the following requirements in 30 CFR parts 70, 71, and 90.

30 CFR | Title
§§ 70.201(c); 90.201(c); and 71.201(c), (e) | Sampling; general requirements
§§ 70.205(c); 71.205(c); 90.205(c) | Approved sampling devices; operation; air flowrate
§§ 70.209(a), (c), and (d); 71.209(a), (c), and (d); and 90.209(a), (c), and (d) | Respirable dust samples; transmission by operator Mine Operator Dust Data Card
§§ 70.210(b); 71.210(b) | Respirable dust samples; report to operator; posting
§ 90.210(b) | Respirable dust samples; report to operator
§§ 70.220(a); 71.220(a); 90.220 | Status change reports
§§ 71.300(a); 90.300(a) | Respirable dust control plan; filing requirements
§ 71.301(d) and (e) | Respirable dust control plan; approval by District Manager and posting
§ 90.301(d) and (e) | Respirable dust control plan; approval by District Manager; copy to part 90 Miner

II. Desired Focus of Comments

The Mine Safety and Health Administration (MSHA) is soliciting comments concerning the proposed extension of the information collection related to existing standards that require coal mine operators sample bimonthly designated occupations or work locations and submit these samples to MSHA for analysis to determine if the mine is complying with the applicable dust standards. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Address the use of appropriate automated, electronic, mechanical, or other technological collection techniques or other forms of information technology (e.g., permitting electronic submissions of responses), to minimize the burden of the collection of information on those who are to respond.

The public may examine publicly available documents, including the public comment version of the supporting statement, at MSHA, Office of Standards, Regulations, and Variances, 1100 Wilson Boulevard, Room 2350, Arlington, VA 22209-3939. OMB clearance requests are available on MSHA's Web site at http://www.msha.gov under “Rules & Regs” on the right side of the screen by selecting Information Collections Requests, Paperwork Reduction Act Supporting Statements. The document will be available on MSHA's Web site for 60 days after the publication date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA to determine compliance with health standards associated with 30 CFR parts 70, 71, and 90. MSHA has updated the data for the number of respondents and responses, and the total burden hours and burden costs supporting this information collection extension request.

Summary

Type of Review: Extension.

Agency: Mine Safety and Health Administration.

Title: Mine Operator Dust Data Card.

OMB Number: 1219-0011.

Affected Public: Business or other for-profit.

Cite/Reference/Form/etc. 30 CFR 70.201(c); 90.201(c); 71.201(c) and (e); 70.205(c); 71.205(c); 90.205(c); 70.209(a), (c), and (d); 71.209(a), (c), and (d); 90.209(a), (c), and (d); 70.210(b); 71.210(b); 90.210(b); 70.220(a); 71.220(a); 90.220; 71.300(a); 90.300(a); 71.301(d) and (e); and 90.301(d) and (e).

Total Number of Respondents: 800.

Frequency: Various.

Total Number of Responses: 63,193.

Total Burden Hours: 8,571 hours.

Other Annual Cost Burden: $44,065.

Comments submitted in response to this notice will be summarized and included in the request for Office of Management and Budget approval of the information collection request; they will also become a matter of public record.

Authority: 44 U.S.C. 3506(c)(2)(A).

Dated: June 22, 2012.
George F. Triebsch,
Certifying Officer.

[FR Doc. 2012-15684 Filed 6-26-12; 8:45 am]

BILLING CODE 4510-43-P